DEPARTMENT OF ENERGY

Federal Energy Regulatory Commission

[Project No. 4472-031]

Union Falls Hydropower, L.P.; Notice of Reasonable Period of Time for Water Quality Certification Application

On May 20, 2024, New York State Department of Environmental Conservation (New York DEC) submitted to the Federal Energy Regulatory Commission (Commission) notice that it received a complete request for a Clean Water Act section 401(a)(1) water quality certification from Union Falls Hydropower, L.P., in conjunction with the above captioned project, on April 25, 2024. Pursuant to section 4.34(b)(5) of the Commission's regulations,¹ we hereby notify New York DEC of the following:

¹ 18 CFR 4.34(b)(5).

Date of Receipt of the Certification Request: April 25, 2024.

Reasonable Period of Time to Act on the Certification Request: One year, April 25, 2025.

If New York DEC fails or refuses to act on the water quality certification request on or before the above date, then the certifying authority is deemed waived pursuant to section 401(a)(1) of the Clean Water Act, 33 U.S.C. 1341(a)(1).

Dated: May 20, 2024.
Debbie-Anne A. Reese,
Acting Secretary.

[FR Doc. 2024-11502 Filed 5-23-24; 8:45 am]

BILLING CODE 6717-01-P